SECURITIES AND EXCHANGE COMMISSION

[Release No. 34-61672; File No. SR-NYSE-2010-16]

Self-Regulatory Organizations; Notice of Filing and Immediate Effectiveness of Proposed Rule Change by New York Stock Exchange LLC To Adopt a Reservation Fee for Next Generation Trading Floor Booth Space

March 8, 2010.

Pursuant to Section 19(b)(1) ¹ of the Securities Exchange Act of 1934 (the “Act”),² and Rule 19b-4 thereunder,³ notice is hereby given that on March 4, 2010, New York Stock Exchange LLC (the “NYSE” or the “Exchange”) filed with the Securities and Exchange Commission (the “Commission”) the proposed rule changes as described in Items I, II and III below, which items have been prepared by the Exchange. The Commission is publishing this notice to solicit comments on the proposed rule changes from interested persons.

¹ 15 U.S.C. 78s(b)(1).

² 15 U.S.C. 78a et seq.

³ 17 CFR 240.19b-4.

I. Self-Regulatory Organization's Statement of the Terms of Substance of the Proposed Rule Change

The Exchange proposes to amend its 2010 Price List to establish a fee in connection with the reservation of booth space as part of its Next Generation Trading Floor renovation. The text of the proposed rule change is available on the Exchange's Web site (http://www.nyse.com), at the Exchange's Office of the Secretary, and at the Commission's Public Reference Room.

II. Self-Regulatory Organization's Statement of the Purpose of, and Statutory Basis for, the Proposed Rule Change

In its filing with the Commission, the self-regulatory organization included statements concerning the purpose of and basis for the proposed rule change and discussed any comments it received on the proposed rule change. The text of these statements may be examined at the places specified in Item IV below. The NYSE has prepared summaries, set forth in Sections A, B and C below, of the most significant aspects of such statements.

A. Self-Regulatory Organization's Statement of the Purpose of, and the Statutory Basis for, the Proposed Rule Change

1. Purpose

The Exchange is in the process of creating its “Next Generation Trading Floor” by renovating Floor broker booths that will utilize cutting edge technology and will enable member organizations to conduct all of their trading activities (including non-NYSE trading) on the Exchange's trading floor. The first phase of the Next Generation Trading Floor has been completed and the first member organization will occupy its new booth space on March 8, 2010. This new construction will allow member organizations to blend the advantages of an NYSE floor presence with those of an upstairs trading desk. To defray a portion of the costs of constructing the Next Generation Trading Floor, the Exchange proposes to permit member organizations to reserve Next Generation Trading Floor booth trading positions on a first-come, first-served basis for a reservation fee of $12,000 per position, subject to a cap of $240,000 per member organization. There is no limit on the amount of Next Generation Trading Floor booth space a member organization may occupy, subject to availability. The reservation fee is the only new fee that member organizations will be required to pay in connection with their occupancy of Next Generation Trading Floor booth space. However, member organizations will continue to be subject to the equipment and other fees that are currently set forth in the Exchange Price List.

The Exchange reserves the right to establish a booth space rental fee at some future date.¹ If, in future, the Exchange establishes a rental fee for such booth space, a member organization will be exempt from the payment of rent with respect to any trading position for which it has paid a reservation fee until the third anniversary of the date on which it took possession of that trading position.

¹ The Exchange will submit a rule filing to the SEC prior to the adoption of any rental charge.

2. Statutory Basis

The Exchange believes that the proposed rule change is consistent with the objectives of Section 6 ² of the Act in general and furthers the objectives of Section 6(b)(4) ³ in particular, in that it is designed provide for the equitable allocation of reasonable dues, fees and other charges among its members and other persons using its facilities. The Exchange believes that the proposal does not constitute an inequitable allocation of dues, fees and other charges, as all member organizations will be able to reserve Next Generation Trading Floor trading positions on the same terms, on a first-come, first-served basis.

² 15 U.S.C. 78f.

³ 15 U.S.C. 78f(b)(4).

B. Self-Regulatory Organization's Statement on Burden on Competition

The Exchange does not believe that the proposed rule change will impose any burden on competition that is not necessary or appropriate in furtherance of the purpose of the Act.

C. Self-Regulatory Organization's Statement on Comments on the Proposed Rule Change Received From Members, Participants, or Others

Written comments were neither solicited nor received.

III. Date of Effectiveness of the Proposed Rule Change and Timing for Commission Action

The foregoing rule change is effective upon filing pursuant to Section 19(b)(3)(A) ⁴ of the Act and Rule 19b-4(f)(2) ⁵ thereunder.

⁴ 15 U.S.C. 78s(b)(3)(A).

⁵ 17 CFR 240.19b-4(f)(2).

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSE-2010-16 on the subject line.

Paper Comments

• Send paper comments in triplicate to Elizabeth M. Murphy, Secretary, Securities and Exchange Commission, 100 F Street, NE., Washington, DC 20549-1090.

All submissions should refer to File Number SR-NYSE-2010-16. This file number should be included on the subject line if e-mail is used. To help the Commission process and review your comments more efficiently, please use only one method. The Commission will post all comments on the Commission's Internet Web site (http://www.sec.gov/rules/sro.shtml). Copies of the submission,⁶ all subsequent amendments, all written statements with respect to the proposed rule change that are filed with the Commission, and all written communications relating to the proposed rule change between the Commission and any person, other than those that may be withheld from the public in accordance with the provisions of 5 U.S.C. 552, will be available for Web site viewing and printing in the Commission's Public Reference Room, on official business days between the hours of 10 a.m. and 3 p.m. Copies of the filing also will be available for inspection and copying at the principal office of the Exchange. All comments received will be posted without change; the Commission does not edit personal identifying information from submissions. You should submit only information that you wish to make available publicly. All submissions should refer to File Number SR-NYSE-2010-16 and should be submitted on or before April 5, 2010.

⁶ The text of the proposed rule change is available on the Commission's Web site at http://www.sec.gov/rules/sro.shtml.

For the Commission, by the Division of Trading and Markets, pursuant to delegated authority.⁷
⁷ 17 CFR 200.30-3(a)(12).
Florence E. Harmon,
Deputy Secretary.

[FR Doc. 2010-5533 Filed 3-12-10; 8:45 am]

BILLING CODE 8011-01-P